DEPARTMENT OF HEALTH AND HUMAN SERVICES

National Institutes of Health

Prospective Grant of Exclusive License: Insulin Producing Cells Differentiated From Non-Insulin Producing Cells by GLP-1 and Exendin-4 and Use Thereof; Correction

The notice published in the October 17, 2000 Federal Register (65 FR 61352)—announcing the prospective grant of an exclusive license for use of insulin producing cells differentiated from non-insulin producing cells—incorrectly listed the PCT Patent Application Serial Number as “PCT/US99/180899” and the PHS Ref. as “E-151-97/1”. NIH is publishing this notice to correct the PCT application number to read “E-251-97/1”.

Dated: October 23, 2000.
Jack Spiegel,
Director, Division of Technology Development and Transfer, Office of Technology Transfer.

[FR Doc. 00-27889 Filed 10-30-00; 8:45 am]

BILLING CODE 4140-01-M